DEPARTMENT OF ENERGY

Federal Energy Regulatory Commission

Combined Notice of Filings #1

Take notice that the Commission received the following electric corporate filings:

Docket Numbers: EC17-117-000.

Applicants: Dynegy Zimmer, LLC, Dynegy Miami Fort, LLC, The Dayton Power and Light Company, AES Ohio Generation, LLC.

Description: Joint Application for Authorization of Disposition of Jurisdictional Assets Under Section 203(a)(1) of the Federal Power Act of Dynegy Buyers and AES Sellers.

Filed Date: 5/12/17.

Accession Number: 20170512-5219.

Comments Due: 5 p.m. ET 6/2/17.

Docket Numbers: EC17-118-000.

Applicants: Meadow Lake Wind Farm V LLC, Quilt Block Wind Farm LLC, Redbed Plains Wind Farm LLC.

Description: Application for Authorization for Disposition of Jurisdictional Facilities and Request for Expedited Action of Meadow Lake Wind Farm V LLC, et. al.

Filed Date: 5/12/17.

Accession Number: 20170512-5220.

Comments Due: 5 p.m. ET 6/2/17.

Take notice that the Commission received the following electric rate filings:

Docket Numbers: ER17-1530-000.

Applicants: Pennsylvania Grain Processing, LLC.

Description: Supplement to May 2, 2017 Pennsylvania Grain Processing, LLC tariff filing under ER17-1530.

Filed Date: 5/12/17.

Accession Number: 20170512-5233.

Comments Due: 5 p.m. ET 6/2/17.

Docket Numbers: ER17-1595-000.

Applicants: ISO New England Inc.

Description: ISO New England Inc. submits First Quarter 2017 Capital Budget Report under ER17-1595.

Filed Date: 5/12/17.

Accession Number: 20170512-5226.

Comments Due: 5 p.m. ET 6/2/17.

Take notice that the Commission received the following electric securities filings:

Docket Numbers: ES17-18-000.

Applicants: Consumers Energy Company.

Description: Supplement to April 27, 2017 Application for Authorization to Issue Securities [Exhibit B] of Consumers Energy Company.

Filed Date: 5/11/17.

Accession Number: 20170511-5089.

Comments Due: 5 p.m. ET 6/1/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 15, 2017.
Kimberly D. Bose,
Secretary.

[FR Doc. 2017-10376 Filed 5-19-17; 8:45 am]

BILLING CODE 6717-01-P